FEDERAL COMMUNICATIONS COMMISSION

[Report No. 2470]

Petition for Reconsideration of Action in Rulemaking Proceeding

March 6, 2001.

Petition for Reconsideration has been filed in the Commission's rulemaking proceeding listed in this public notice and published pursuant to 47 CFR 1.429(e). The full text of this document is available for viewing and copying in Room CY-A257, 445 12th Street, SW., Washington, DC or may be purchased from the Commission's copy contractor, ITS, Inc. (202) 857-3800. Oppositions to this petition must be filed by March 29, 2001. See § 1.4(b)(1) of the Commission's rules (47 CFR 1.4(b)(1)). Replies to an opposition must be filed within 10 days after the time for filing oppositions have expired.

Subject: Review of the Commission's Broadcast and Cable Equal Employment Opportunity Rules and Policies and Termination of the EEO Streamlining Proceeding (MM Docket No. 98-204, 96-16).

Number of Petitions Filed: 1.

Magalie Roman Salas,
Secretary.

Federal Communications Commission.

[FR Doc. 01-6316 Filed 3-13-01; 8:45 am]

BILLING CODE 6712-01-M